ENVIRONMENTAL PROTECTION AGENCY

[ER-FRL-6628-4]

Notice of Intent: To Prepare a Supplemental Environmental Impact Statement (SEIS) on a Request To Modify a Memorandum of Agreement (MOA) Between EPA and Jefferson Parish (Parish), Louisiana Prohibiting the Parish From Providing Service From the Lafitte-Marrero Waterline to a Designated Area

AGENCY: U.S. Environmental Protection Agency (EPA), Region 6.

Purpose: To comply with the National Environmental Policy Act and evaluate the potential impacts of modifying the MOA. In addition, the U.S. Army Corps of Engineers (COE) may choose to rely on the SEIS in determining whether to modify a 1979 permit it issued to the Parish authorizing discharges of dredged and fill material incidental to construction of the Lafitte-Marrero Waterline.

SUMMARY: In settlement of a potential Council on Environmental Quality referral under Section 309(a) of the Clean Air Act, EPA Region 6 and Jefferson Parish entered into an MOA in 1979. In that MOA, the Parish agreed not to provide water service from the Lafitte-Marrero Waterline to a “prohibited service area” containing sensitive wetlands. The COE incorporated the MOA as a condition of a permit it issued to the Parish for construction of the waterline pursuant to Section 404 of the Clean Water Act (CWA) and violation of the MOA would thus violate that permit. In 1985, EPA Region 6 prohibited future discharges of dredged or fill material to wetlands in a designated portion of the restricted service area (the Bayou Aux Carpes Swamp) pursuant to Section 404(c) of the CWA. The Parish has requested EPA to modify the 1979 MOA to allow it to provide water service to an existing swamp tour facility and a proposed “Jellystone Park” campground in the prohibited service area. As proposed, these developments are or will be located in uplands within the area subject to the 404(c) designation. Before making a decision on the Parish's request, EPA will prepare a site specific “second tier” SEIS to evaluate potential environmental effects associated with the requested modification.

Alternatives: EPA may approve or deny the request to provide service to the Peach Orchard Jellystone Park campground, as proposed, or with modifications to mitigate or reduce adverse impacts to acceptable levels. Other reasonable alternatives, including those outside EPA's authority, may also be evaluated in the SEIS.

Scoping: EPA solicits written comments from interested parties regarding environmental issues to be addressed in the Draft SEIS. Interested parties are encouraged to submit their comments within fifteen (15) days of this notice. EPA will prepare a responsiveness summary of those issues determined to be within (and not within) the scope of the SEIS.

FOR ADDITIONAL INFORMATION, OR TO BE PLACED ON EPA's SEIS MAILING LIST: Write or call Mr. Robert D. Lawrence, Chief of the Office of Planning and Coordination, EPA Region 6, 1445 Ross Ave., Dallas, TX 75202; tel: (214) 665-8150.

Estimated Date of the Draft SEIS Release: Summer 2002.

Responsible Official: Gregg A. Cooke, Regional Administrator.

Dated: April 23, 2002.
Anne Norton Miller,
Director, Office of Federal Activities.

[FR Doc. 02-10345 Filed 4-25-02; 8:45 am]

BILLING CODE 6560-50-M